DEPARTMENT OF COMMERCE

Foreign-Trade Zones Board

[S-202-2020]

Foreign-Trade Zone 18—San Jose, California; Application for Subzone Expansion; Lam Research Corporation; Fremont, California

An application has been submitted to the Foreign-Trade Zones (FTZ) Board by the City of San Jose, grantee of FTZ 18, requesting an expansion of Subzone 18F on behalf of Lam Research Corporation in Fremont, California. The application was submitted pursuant to the provisions of the Foreign-Trade Zones Act, as amended (19 U.S.C. 81a-81u), and the regulations of the FTZ Board (15 CFR part 400). It was formally docketed on November 12, 2020.

Subzone 18F consists of the following sites: Site 1 (29.28 acres)—4650 Cushing Parkway, Fremont, Alameda County; Site 4 (14.82 acres)—1 and 101 Portola Avenue, Livermore, Alameda County; Site 5 (7.3 acres)—7364 Marathon Drive and 7150 Patterson Pass Road, Unit G, Livermore, Alameda County; Site 7 (0.91 acres)—6757 Las Positas Road, Livermore, Alameda County; Site 8 (0.44 acres)—7888 Marathon Drive, Livermore, Alameda County; Site 9 (1.6 acres)—41707 Christy Street, Fremont, Alameda County; Site 11 (1.19 acres)—4050 Starboard Drive, Fremont, Alameda County; Site 12 (0.98 acres)—7650 Marathon Drive, Livermore, Alameda County; Site 13 (3.49 acres)—6551 West Schulte Road, Tracy, San Joaquin County; Site 14 (8.56 acres)—1201 Voyager Street, Livermore, Alameda County; and, Site 15 (2.77 acres)—20427 Corsair Boulevard, Hayward, Alameda County. The applicant is now requesting authority to expand the subzone to include an additional site (3.62 acres) located at 4405 Cushing Parkway, Fremont, Alameda County, which would be designated as Site 16. The expanded subzone would be subject to the existing activation limit of FTZ 18.

In accordance with the FTZ Board's regulations, Qahira El-Amin of the FTZ Staff is designated examiner to review the application and make recommendations to the Executive Secretary.

Public comment is invited from interested parties. Submissions shall be addressed to the FTZ Board's Executive Secretary and sent to: ftz@trade.gov. The closing period for their receipt is December 28, 2020. Rebuttal comments in response to material submitted during the foregoing period may be submitted during the subsequent 15-day period to January 12, 2021.

A copy of the application will be available for public inspection in the “Reading Room” section of the FTZ Board's website, which is accessible via www.trade.gov/ftz.

For further information, contact Qahira El-Amin at Qahira.El-Amin@trade.gov.

Dated: November 12, 2020.
Andrew McGilvray,
Executive Secretary.

[FR Doc. 2020-25447 Filed 11-17-20; 8:45 am]

BILLING CODE 3510-DS-P